DEPARTMENT OF HEALTH AND HUMAN SERVICES

Centers for Disease Control and Prevention

National Center for Environmental Health/Agency for Toxic Substances and Disease Registry (NCEH/ATSDR); Notice of National Conversation on Public Health and Chemical Exposures Leadership Council Meeting

Time and Date: 9:30 a.m.-4 p.m., Friday, December 11, 2009.

Location: Omni Shoreham Hotel, 2500 Calvert Street, NW., Washington, DC 20008.

Status: Open to the public, on a first come, first served basis, limited by the space available. An opportunity for the public to listen to the meeting by phone may be provided; see “Contact for Additional Information” below.

Purpose: This is the first meeting of the National Conversation on Public Health and Chemical Exposures Leadership Council. The National Conversation on Public Health and Chemical Exposures is a collaborative initiative through which many organizations and individuals are helping develop an action agenda for strengthening the nation's approach to protecting the public's health from harmful chemical exposures. The Leadership Council provides overall guidance to the National Conversation project and will be responsible for issuing the final action agenda. For additional information on the National Conversation on Public Health and Chemical Exposures, visit this Web site: http://www.atsdr.cdc.gov/nationalconversation/.

Meeting Agenda: The meeting will provide an overview of the National Conversation on Public Health and Chemical Exposures, the status of project activities to date, and the project timeline. The meeting then will focus on discussions of the National Conversation Operating Procedures and the charges for the six National Conversation Work Groups.

Contact for Additional Information: If you would like to receive additional information on attending the meeting or the potential opportunity to listen to the meeting by phone, please contact: nationalconversation@cdc.gov or Ben Gerhardstein at 770-488-3646.

Tanja Popovic,
Associate Director of Science, Centers for Disease Control and Prevention.

[FR Doc. E9-28035 Filed 11-20-09; 8:45 am]

BILLING CODE 4163-18-P